DEPARTMENT OF LABOR

Employment Standards Administration

Proposed Collection; Comment Request

ACTION: Notice.

SUMMARY: The Department of Labor, as part of its continuing effort to reduce paperwork and respondent burden, conducts a preclearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Employment Standards Administration is soliciting comments concerning the proposed collection: Optional Use Payroll Form Under The Davis-Bacon Act (WH-347). A copy of the proposed information collection request can be obtained by contacting the office listed below in the addresses section of this Notice.

DATES: Written comments must be submitted to the office listed in the addresses section below on or before December 19, 2005.

ADDRESSES: Ms. Hazel M. Bell, U.S. Department of Labor, 200 Constitution Ave., NW., Room S-3201, Washington, DC 20210, telephone (202) 693-0418, fax (202) 693-1451, Email bell.hazel@dol.gov. Please use only one method of transmission for comments (mail, fax, or Email).

SUPPLEMENTARY INFORMATION:

I. Background

The Copeland Act (40 U.S.C. 3145) requires contractors and subcontractors performing work on Federally financed or assisted construction contracts to “furnish weekly a statement with respect to the wages paid each employee during the preceding week.” Regulations 29 CFR 5.5(a)(3)(ii) requires contractors weekly to submit a copy of all payrolls to the Federal agency contracting for or financing the construction project. A signed “Statement of Compliance” indicating the payrolls are correct and complete and that each laborer or mechanic has been paid not less than the proper Davis-Bacon Act (DBA) prevailing wage rate for the work performed must accompany the payroll. Regulations 29 CFR 3.3(b) requires each contractor to furnish such weekly “Statements of Compliance”. Regulations 29 CFR 5.5(a)(3)(i) requires the Social Security Number of each employee on such payrolls. Regulations 29 CFR 3.4 and 5.5(a)(3)(i) require contractors to maintain these records for three years after completion of the work. Contractors and subcontractors must certify their payrolls by attesting that persons performing work on Davis-Bacon and Related Acts (DBRA) covered contracts have received the proper payment of wages and fringe benefits. Contracting officials and Wage and Hour Division staff use these certified payrolls to verify that contractors pay the required rates and as an aid in determining whether the contractors have properly classified the workers for the work they perform. The DOL has developed the optional use Form WH-347, Payroll Form, which contractors may use to meet the payroll reporting requirements. The form contains the basic payroll information that contractors must furnish each week they perform any work subject to the DBRA. This information collection is currently approved for use through March 31, 2006.

II. Review Focus

The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility and clarity of the information to be collected; and

• Minimize the burden of the collection of information on those who are to respond, including through the use of appropriate automated, electronic, mechanical, or other technological collection techniques or other forms of information technology, e.g., permitting electronic submissions of responses.

III. Current Actions

The Department of Labor seeks the approval of the extension of this information collection to carry out its responsibility to determine a contractor's compliance with provisions of the Davis-Bacon and Related Acts and the Copeland Act.

Type of Review: Extension.

Agency: Employment Standards Administration.

Titles: Optional Use Payroll Form under the Davis-Bacon Act.

OMB Number: 1215-0149.

Agency Numbers: WH-347.

Affected Public: Business or other for-profit; Federal Government; State, Local or Tribal Government.

Total Respondents: 54,620.

Total Annual Responses: 5,025,040.

Estimated Total Burden Hours: 4,700,000.

Estimated Time Per Response: 56 minutes.

Frequency: Weekly.

Total Burden Cost (capital/startup): $0.

Total Burden Cost (operating/maintenance): $201,000.

Comments submitted in response to this notice will be summarized and/or included in the request for Office of Management and Budget approval of the information collection request; they will also become a matter of public record.

Dated: October 13, 2005.
Bruce Bohanon,
Chief, Branch of Management Review and Internal Control, , Division of Financial Management, Office of Management, Administration and Planning, Employment Standards Administration.

[FR Doc. 05-20926 Filed 10-18-05; 8:45 am]

BILLING CODE 4510-27-P